ENVIRONMENTAL PROTECTION AGENCY

40 CFR Part 52

[EPA-R06-OAR-2007-0356; FRL—9842-6]

Approval and Promulgation of Air Quality Implementation Plans; Texas; Victoria County, 1997 8-Hour Ozone Section 110 (a)(1) Maintenance Plan

AGENCY: Environmental Protection Agency (EPA).

ACTION: Direct final rule.

SUMMARY: EPA is taking direct final action approving revisions to the Texas State Implementation Plan (SIP). The submitted revisions include a maintenance plan for Victoria County, Texas, developed to ensure continued attainment of the 1997 8-hour National Ambient Air Quality Standard (NAAQS or standard). The Maintenance Plan meets the requirements of Section 110(a)(1) of the Federal Clean Air Act (CAA or Act), EPA's rules, and is consistent with EPA's guidance. On March 12, 2008, EPA issued a revised ozone standard. Today's action is being taken to address requirements under the 1997 ozone standard. EPA is approving the revision pursuant to section 110 of the CAA.

DATES: This rule is effective on October 7, 2013 without further notice, unless EPA receives relevant adverse comment by September 9, 2013. If EPA receives such comment, EPA will publish a timely withdrawal in the Federal Register informing the public that this rule will not take effect.

ADDRESSES: Submit your comments, identified by Docket No. EPA-R06-OAR-2007-0356, by one of the following methods:

• Federal eRulemaking Portal: http://www.regulations.gov. Follow the on-line instructions for submitting comments.

• EPA Region 6 Contact Us Web site: http://epa.gov/region6/r6coment.htm. Please click on ”6PD” (Multimedia) and select ”Air” before submitting comments.

• Email: Mr. Guy Donaldson at donaldson.guy@epa.gov. Please also send a copy by email to the person listed in the FOR FURTHER INFORMATION CONTACT section below.

• Fax: Mr. Guy Donaldson, Chief, Air Planning Section (6PD-L), at fax number 214-665-7263.

• Mail: Mr. Guy Donaldson, Chief, Air Planning Section (6PD-L), Environmental Protection Agency, 1445 Ross Avenue, Suite 1200, Dallas, Texas 75202-2733.

• Hand or Courier Delivery: Mr. Guy Donaldson, Chief, Air Planning Section (6PD-L), Environmental Protection Agency, 1445 Ross Avenue, Suite 1200, Dallas, Texas 75202-2733. Such deliveries are accepted only between the hours of 8:00 a.m. and 4:00 p.m. weekdays except for legal holidays. Special arrangements should be made for deliveries of boxed information.

Instructions: Direct your comments to Docket ID No. EPA-R06-OAR-2007-0356. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Air Planning Section (6PD-L), Environmental Protection Agency, 1445 Ross Avenue, Suite 700, Dallas, Texas 75202-2733. The file will be made available by appointment for public inspection in the Region 6 FOIA Review Room between the hours of 8:30 a.m. and 4:30 p.m. weekdays except for legal holidays. Contact the person listed in the FOR FURTHER INFORMATION CONTACT paragraph below or Mr. Bill Deese at 214-665-7253 to make an appointment. If possible, please make the appointment at least two working days in advance of your visit. There will be a 15 cent per page fee for making photocopies of documents. On the day of the visit, please check in at the EPA Region 6 reception area at 1445 Ross Avenue, Suite 700, Dallas, Texas.

The State submittal is also available for public inspection at the State Air Agency listed below during official business hours by appointment:

Texas Commission on Environmental Quality, Office of Air Quality, 12124 Park 35 Circle, Austin, Texas 78753.

FOR FURTHER INFORMATION CONTACT: Kenneth W. Boyce, Air Planning Section (6PD-L), Environmental Protection Agency, Region 6, 1445 Ross Avenue, Suite 700, Dallas, Texas 75202-2733, telephone 214-665-7259; fax number 214-665-7263; email address boyce.kenneth@epa.gov.

SUPPLEMENTARY INFORMATION: Throughout this document, whenever “we” “us” or “our” is used, we mean the EPA.

Outline

I. Background

II. Analysis of the State's Submittal

III. Final Action

IV. Statutory and Executive Order Reviews

I. Background

On March 3, 1978, under the 1977 Clean Air Act (CAA) amendments, Victoria County, Texas, was designated a nonattainment area because it did not meet the National Ambient Air Quality Standards (NAAQS) for 1-hour ozone (43 FR 8962). As required by the CAA, the state of Texas submitted a State Implementation Plan (SIP) to the EPA in 1979. This SIP outlined control measures to bring the area into attainment for the 1-hour ozone NAAQS. This SIP was approved by EPA in two actions, one in March 25, 1980 (45 FR 19231) and another in August 13, 1984 (49 FR 32180). An additional SIP revision for Victoria County was submitted to EPA on November 12, 1992. This submission revised the air monitoring, reporting and record keeping requirements for VOC sources and was approved by EPA on March 7, 1995 (60 FR 12438).

On July 27, 1994, Texas submitted a request to redesignate Victoria County to attainment for the 1-hour ozone NAAQS. At the same time, Texas submitted the required ozone monitoring data and a maintenance plan to ensure the area would remain in attainment for ozone for a period of 10 years. The maintenance plan submitted by Texas followed EPA guidance for limited maintenance areas, which provides relief for ozone areas that have design values less than 85% of the applicable standard. In this case, the applicable standard was the 1-hour ozone standard of 0.12 parts per million (ppm). At the time of the redesignation request, the design value for Victoria County was 0.100 ppm, well below the 85% threshold of 0.106 ppm. EPA approved Texas's request to redesignate to attainment Victoria County for the 1-hour ozone NAAQS and the maintenance plan on March 7, 1995, with an effective date of May 8, 1995 (60 FR 12453).

Section 175A(b) of the CAA as amended in 1990 requires the state to submit a subsequent maintenance plan to EPA eight years after designation to attainment. The eight-year deadline for submittal was May 8, 2003. The state adopted a maintenance plan on February 5, 2003, and submitted the plan to EPA on February 18, 2003. EPA approved the maintenance plan revision on January 3, 2005 (70 FR 22). This submission satisfied the CAA requirement for the Victoria County 1-hour ozone area.

On April 30, 2004, EPA designated and classified areas for the 1997 8-hour ozone NAAQS, and published the final phase 1 rule for implementation of the 1997 8-hour ozone NAAQS (69 FR 23951). Victoria County was designated as attainment/unclassifiable for the 1997 8-hour ozone standard, effective June 15, 2004 (69 FR 23858), and was required to submit a 10-year maintenance plan under section 110(a)(1) of the 1990 CAA Amendments and the phase 1 rule. On May 20, 2005, EPA issued guidance providing information regarding how a state might fulfill the maintenance plan obligation established by the Act and the Phase 1 rule (Memorandum from Lydia N. Wegman to Air Division Directors, Maintenance Plan Guidance Document for Certain 8-hour Ozone Areas Under Section 110(a)(1) of Clean Air Act, May 20, 2005).

On March 7, 2007, TCEQ submitted a SIP revision to address the 110(a)(1) requirements. On July 28, 2010, Texas submitted a revision to the contingency portion of the Maintenance Plan. These submitted SIP revisions are intended to satisfy the section 110(a)(1) CAA requirements for Victoria County 1997 8-hour ozone area. This SIP revision satisfies the section 110(a)(1) CAA requirements for a plan that provides for implementation, maintenance, and enforcement of the 1997 8-hour ozone NAAQS in the Victoria County, Texas, area.

On December 22, 2006, the United States Court of Appeals for the District of Columbia Circuit issued an opinion that vacated EPA's Phase 1 Implementation Rule for the 1997 8-Hour Ozone Standard. (South Coast Air Quality Management District. v. EPA, 472 F.3d 882 (D.C. Cir. 2006)). Petitions for rehearing were filed with the Court, and on June 8, 2007, the Court modified the scope of the vacatur of the Phase 1 rule. See 489 F.3d 1245 (D.C. Cir. 2007), cert. denied, 128 S.Ct. 1065 (2008). The Court vacated those portions of the Rule that provide for regulation of the 1997 8-hour ozone NAAQS nonattainment areas under Subpart 1 in lieu of Subpart 2 and that allow backsliding with respect to new source review, penalties, milestones, contingency plans, and motor vehicle emission budgets. Consequently, the Court's modified ruling does not alter any requirements under the Phase 1 implementation rule for the 1997 8-hour ozone NAAQS for maintenance plans.

II. Analysis of the State's Submittals

In this action, EPA is approving the State's maintenance plan for the 1997 ozone NAAQS for the area of Victoria County, Texas because EPA finds that the Texas submittals meet the requirements of section 110(a)(1) of the CAA, EPA's rule, and are consistent with EPA's guidance. As required, the submitted plan provides for continued attainment and maintenance of the 1997 ozone NAAQS in the area for 10 years from the effective date of the area's designation as unclassifiable/attainment for the 1997 ozone NAAQS, and includes components illustrating how the area will continue in attainment of the 1997 ozone NAAQS and contingency measures. Our analysis of the State's submission is discussed below.

Section 110(a)(1) of the CAA does not explicitly state what is required for a maintenance plan, so the guidance suggested using CAA section 175A, which states the requirements for a maintenance plan, as a guide for states to use in developing their maintenance plans. The required components of a Maintenance Plan under CAA Section 175A include:

(a) An attainment inventory;

(b) A maintenance demonstration;

(c) Ambient air quality monitoring;

(d) A contingency plan, and;

(e) Verification of continued attainment.

TCEQ has structured this 8-hour ozone maintenance plan around these components.

(a) Attainment Inventory—The TCEQ has selected 2002 as “the attainment inventory” for purposes of demonstrating maintenance of the 8-hour ozone NAAQS in Victoria County. An attainment emissions inventory (EI) includes emissions of VOCs and NOX during the time period associated with monitoring data showing attainment. VOC and NOX emissions are key components in the formation of ozone. As recommended by the EPA, the TCEQ selected 2002 as the attainment emission inventory base year because it is one of the three years on which the 8-hour ozone designation was based. The 2002 VOC and NOX emissions for the Victoria County area were developed consistent with EPA guidance and are summarized in Tables 2 and 3 in the following subsection.

(b) Maintenance Demonstration—The March 7, 2007, submittal includes a 10-year maintenance plan for Victoria County. The maintenance demonstration is satisfied if the state demonstrates that future projected EIs are consistently less than the 2002 attainment or baseline EI. The final projection year, 2014, was selected as 10 years from the attainment year of 2004, and the intermediate year of 2010 was selected as a mid-point in the 10-year period to demonstrate continued reductions. These projected inventories were developed using EPA-approved methodologies. Please see the TSD for more information on EPA's review and evaluation of the State's methodologies, modeling, inputs, etc., for developing the 2010 and 2014 projected emissions inventories.

As recommended by EPA guidance, this demonstration:

(i) Shows compliance and maintenance of the 8-hour ozone standard by assuring that current and future emissions of VOC and NOX remain at or below attainment or baseline EI of 2002. The year 2002 was chosen as the baseline and attainment year because it is one of the most recent three years (i.e., 2002, 2003, and 2004) for which Victoria County has clean air quality data for the 8-hour ozone standard.

(ii) Uses 2002 as the attainment year and includes future inventory projected years for 2010 and 2014.

(iii) Identifies an “out year”, at least 10 years after the effective date of classification as attainment.

(iv) Provides the following actual and projected emissions inventories for Victoria County.

Table 2—Total VOC Emissions for 2002-2014
[tpd]
Source category | 2002 VOC Emissions | 2004 VOC Emissions | 2010 VOC Emissions | 2014 VOC Emissions
Nonroad Mobile | 1.21 | 1.00 | 0.64 | 0.57
Area | 6.28 | 6.31 | 6.85 | 7.23
Point | 2.60 | 3.10 | 3.30 | 3.60
Onroad Mobile | 3.29 | 2.71 | 1.78 | 1.40
Total | 13.38 | 13.12 | 12.57 | 12.8

Table 3—Total NOX Emissions for 2002-2014
[tpd]
Source category | 2002 NOX Emissions | 2004 NOX Emissions | 2010 NOX Emissions | 2014 NOX Emissions
Nonroad Mobile | 2.23 | 2.02 | 1.77 | 1.51
Area | 2.56 | 2.65 | 2.90 | 3.07
Point | 13.00 | 15.00 | 16.00 | 17.00
Onroad Mobile | 11.26 | 9.72 | 4.86 | 2.90
Total | 29.05 | 29.39 | 25.53 | 24.48

EPA finds that the future emissions levels in 2010 and 2014 are not expected to exceed the emissions levels in 2002. EPA notes that total NOX emissions in 2004 were slightly higher than the base-year but, air quality monitoring data continued to show attainment.

(c) Monitoring Network—The method chosen to verify continued attainment is the ambient air quality monitoring network. The ambient air monitoring sites will remain active at their present locations during the entire length of the maintenance plan period (2014) or if relocated or removed, will be done with EPA's concurrence. This data will be quality controlled and submitted to EPA AIRS on a monthly basis. The Victoria County monitoring network consists of two ambient air monitors. The first monitor is located in the City of Victoria (CAMS 87) and is the monitor driving the area's design value. The monitors are managed in accordance with 40 CFR Part 58, to verify the attainment status of the county. The second monitor located southeast of the City of Victoria (CAMS 602) became operational on July 19, 2000. CAMS 602 is only run half a year each year and does not meet EPA requirements for data completeness for showing attainment. This additional monitoring network goes beyond the required minimum for Victoria County. Both monitors will be used to detect if and when levels have been exceeded for contingency measure triggering purposes. The State of Texas has committed in its maintenance plan to continue operation of an appropriate ozone monitoring network and to work with EPA in compliance with 40 CFR part 58 with regard to the continued adequacy of the network, if additional monitoring is needed, and when monitoring can be discontinued. The commitment is also to continue quality assurance according to the EPA regulations.

(d) Contingency Plan—The 8-Hour Ozone phase 1 Rule requires the Section 110(a)(1) maintenance plan include such contingency provisions as necessary to promptly address any violation of the NAAQS that occurs. The contingency plan will ensure that the contingency measures are adopted expeditiously once they are triggered. The maintenance plan should identify the events that would trigger the adoption and implementation of a contingency measure(s), the contingency measure(s) that would be adopted and implemented, and the schedule indicating the time frame by which the state would adopt and implement the measure(s).

The Victoria contingency plan ensures that the contingency measures are adopted expeditiously if they are triggered. A series of early triggers have been established in order to effectuate appropriate and timely responses to indications of a possible future violation of the NAAQS. Thus, actions will be taken as follows to avoid a violation and potential redesignation to nonattainment.

If Victoria County monitors a three-year eight-hour ozone average at or above 82 parts per billion (ppb), the City of Victoria will institute a voluntary program with industry to reschedule, revise, or curtail activities during Ozone Advisory Days, which are EPA's AIRNow Air Quality Index “Orange Days,” and are at or above 76 ppb. This program will be developed and available within 30 days after notification by the TCEQ that the contingency measure will be required. This program will be implemented as expeditiously as practicable, but no later than 24 months after the Texas Commission on Environmental Quality's (TCEQ) notification that the contingency measure is needed.

If Victoria County monitors an eight-hour ozone three-year average at or above 83 ppb, the TCEQ will work with the City of Victoria and the local Air Victoria Team to implement various voluntary control measures that may include:

—substantially increasing the number of businesses notified on Ozone Advisory Days;

—increasing the number of ozone public announcements; and

—other voluntary control measures as identified in a letter from the City of Victoria, dated September 8, 2009.

In the event that this contingency measure is triggered, Victoria County may also be expected to voluntarily implement further local control measures, and previous efforts to reduce ozone may need to be retained. This program will be developed and available within 30 days after notification by the TCEQ that the contingency measure will be required. This program will be implemented as expeditiously as practicable, but no later than 24 months after verified monitoring data indicate that the Victoria County three-year average of each annual fourth-highest daily maximum eight-hour ozone average is at or above 83 ppb.

If air quality monitoring data indicate three or more exceedances of the 1997 eight-hour ozone NAAQS (measured at 0.08 parts per million) within one calendar year, the TCEQ will analyze air quality data, meteorological conditions, transport, and related factors in Victoria County to determine the cause of the exceedances. The TCEQ will notify the EPA of its findings.

If air quality monitoring data indicate that Victoria County's design value violates the 1997 eight-hour ozone NAAQS with a monitored value of 85 ppb or above, the TCEQ is committing to implement specific contingency measures to promptly correct the violation. Those to be considered include but are not limited to the control measures identified below. In this maintenance plan, if contingency measures are triggered, TCEQ is committing to implement the appropriate contingency measures as expeditiously as practicable, but no later than 24 months after verified air quality monitoring data indicate that the Victoria County three-year average of each annual fourth-highest daily maximum eight-hour ozone average violates the 1997 eight-hour ozone NAAQS.

Revision to 30 Texas Administrative Code (TAC) Chapter 117 Subchapter E, Division 4, to control rich-burn, gas-fired, reciprocating internal combustion engines located in Victoria County to meet nitrogen oxides (NOX) emission specifications and other requirements to reduce NOX emissions and ozone air pollution.

Inclusion of Victoria County in 30 TAC Chapter 115 volatile organic compounds (VOC) rules for the control of crude and condensate storage tanks at upstream oil and gas exploration and production sites or midstream pipeline breakout stations with uncontrolled flash emissions greater than 25 tons per year.

Inclusion of Victoria County in 30 TAC Chapter 115 VOC rules for more stringent controls for tank fittings on floating roof tanks, such as slotted guide poles and other openings in internal and external floating roofs.

Inclusion of Victoria County in 30 TAC Chapter 115 VOC rules limiting emissions from landings of floating roofs in floating roof tanks.

Inclusion of Victoria County in 30 TAC Chapter 115 VOC rules for control of VOC emissions from degassing operations for storage tanks with a nominal capacity of 75,000 gallons or more storing materials with a true vapor pressure greater than 2.6 pounds per square inch absolute (psia), or with a nominal capacity of 250,000 gallons or more storing materials with a true vapor pressure of 0.5 psia or greater. Degassing vapors from storage vessels, transport vessels, and marine vessels would be required to vent to a control device until the VOC concentration of the vapors is reduced to less than 34,000 parts per million by volume as methane.

Inclusion of Victoria County in 30 TAC Chapter 114 rule for Texas Low Emission Diesel (TxLED) compliant marine diesel.

The maintenance plan also identifies other potential measures deemed appropriate at the time as a result of advances in control technologies. These contingency measures and schedules for implementation satisfy EPA's long-standing guidance on the requirements of section 110(a)(1) of continued attainment. Based on the above, we find that the contingency measures provided in the State's Victoria County 8-hour Ozone maintenance plan are sufficient and meet the requirements of section 110(a)(1) of the CAA.

(e) Verification of Continued Attainment—To guarantee that attainment will be continued in the future, the State commits in the maintenance plan to track the progress of the maintenance plan by providing the EPA with an interim emissions inventory report for point, area, mobile and biogenic emissions of VOCs and CO in the Victoria area. In addition, Texas commits to verify the 8-hour ozone status through appropriate ambient air quality monitoring, and to quality assure air quality monitoring data according to federal requirements. Texas further demonstrates that it has the legal authority to implement and enforce all air quality measures needed to attain and maintain the 1997 8-hour ozone NAAQS.

III. Final Action

The TCEQ submitted the 1997 8-hour ozone NAAQS maintenance plan for Victoria County to EPA on March 7, 2007 with revisions on July 28, 2010. EPA is approving these maintenance plan SIP revisions for Victoria County as meeting the requirements of CAA Section 110(a)(1) and EPA's regulations and being consistent with EPA guidance. We have evaluated the State's submittal and have determined that it meets the applicable requirements of the Clean Air Act and EPA regulations, and is consistent with EPA policy. Therefore, we are approving the request of TCEQ to revise the SIP for the Victoria County 8-hour ozone area.

EPA is publishing this rule without prior proposal because we view this as a non-controversial amendment and anticipate no adverse comments. However, in the proposed rules section of this Federal Register publication, we are publishing a separate document that will serve as the proposal to approve the SIP revision if relevant adverse comments are received. This rule will be effective on October 7, 2013 without further notice unless we receive adverse comment by September 9, 2013. If we receive adverse comments, we will publish a timely withdrawal in the Federal Register informing the public that the rule will not take effect. We will address all public comments in a subsequent final rule based on the proposed rule. We will not institute a second comment period on this action. Any parties interested in commenting must do so now. Please note that if we receive adverse comment on an amendment, paragraph, or section of this rule and if that provision may be severed from the remainder of the rule, we may adopt as final those provisions of the rule that are not the subject of an adverse comment.

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by October 7, 2013. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Ozone, Nitrogen dioxides, Reporting and recordkeeping requirements, Volatile organic compounds.

Dated: July 19, 2013.
Ron Curry,
Regional Administrator, Region 6.

40 CFR part 52 is amended as follows:

PART 52—APPROVAL AND PROMULGATION OF IMPLEMENTATION PLANS

1. The authority citation for part 52 continues to read as follows:

Authority: 42 U.S.C. 7401 et seq.

Subpart SS—Texas

2. In § 52.2270, the second table in paragraph (e) entitled “EPA Approved Nonregulatory Provisions and Quasi-Regulatory Measures in the Texas SIP,” is amended by adding an entry at the end of the table to read as follows:

§ 52.2270. Identification of plan.

* * * * *

(e) * * *

* * * * *

EPA-Approved Nonregulatory Provisions and Quasi-Regulatory Measures in the Texas SIP
Name of SIP provision | Applicable geographic or nonattainment area | State submittal/ effective date | EPA approval date | Comments
* * * * * * *
Victoria County 1997 8-Hour Ozone Maintenance Plan | Victoria, TX | 7/28/2010 | 8/8/2013 [Insert FR page number where document begins]

* * * * *

[FR Doc. 2013-18885 Filed 8-7-13; 8:45 am]

BILLING CODE 6560-50-P